DEPARTMENT OF COMMERCE

Foreign-Trade Zones Board

[Docket 51-2003]

Foreign-Trade Zone 25—Broward County, FL; Proposed Foreign-Trade Subzone, Chevron Products Company (Petroleum Product Storage), Port Everglades, FL

An application has been submitted to the Foreign-Trade Zones Board (the Board) by Broward County, Florida, grantee of FTZ 25, requesting special-purpose subzone status for the petroleum product storage facility of Chevron Products Company (Chevron), located in Port Everglades, Florida. The application was submitted pursuant to the provisions of the Foreign-Trade Zones Act, as amended (19 U.S.C. 81a-81u), and the regulations of the Board (15 CFR part 400). It was formally filed on October 2, 2003.

The Chevron terminal facility (21.53 acres) consists of a single site of two parcels and a pipeline in Port Everglades, Florida, (Broward County): Parcel 1, East Tank Farm (15 tanks, 434,327 barrel capacity, 10.56 acres) located at 1400 S.E. 24th St.; and, Parcel 2, West Tank Farm (3 tanks, 137,953 barrel capacity, 9.39 acres) located at 900 S.E. 24th St. The Chevron connecting pipeline is used for routing of petroleum products to the storage terminals from arriving vessels at the docks.

The storage facility is primarily used for the receipt, storage, and distribution of jet fuel by pipeline to the Miami and Fort Lauderdale International Airports. The company also uses the facility to store and distribute gasoline, diesel fuel, distillate fuels, and blending stocks. Some of the products are or will be sourced from abroad or from U.S. refineries under FTZ procedures.

Zone procedures would exempt Chevron from Customs duties and federal excise taxes on foreign status jet fuel used for international flights. On domestic sales, the company would be able to defer Customs duty payments until the products leave the facility. The application indicates that the savings from FTZ procedures would help improve the facility's international competitiveness.

No specific manufacturing request is being made at this time. Such a request would be made to the Board on a case-by-case basis.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade Zones Board, U.S. Department of Commerce, Franklin Court Building—Suite 4100W, 1099 14th St. NW., Washington, DC 20005; or

2. Submissions Via the U.S. Postal Service: Foreign-Trade Zones Board, U.S. Department of Commerce, FCB—Suite 4100W, 1401 Constitution Ave. NW., Washington, DC 20230.

The closing period for their receipt is December 8, 2003. Rebuttal comments in response to material submitted during the foregoing period may be submitted during the subsequent 15-day period (to December 23, 2003).

A copy of the application and accompanying exhibits will be available for public inspection at the Office of the Foreign-Trade Zones Board's Executive Secretary at address Number 1 listed above, and at the U.S. Department of Commerce Export Assistance Center, 200 E. las Olas Blvd. (Sun Sentinel Bldg.), Suite 1600, Ft. Lauderdale, Florida 33301-2284.

Dated: October 2, 2003.
Dennis Puccinelli,
Executive Secretary.

[FR Doc. 03-25628 Filed 10-8-03; 8:45 am]

BILLING CODE 3510-DS-U